DEPARTMENT OF DEFENSE

Department of the Navy

Notice of Public Meetings for Hawaii-California Training and Testing Environmental Impact Statement/Overseas Environmental Impact Statement (ID# EISX-007-17-USN-1724283453)

AGENCY: Department of the Navy (DoN), Department of Defense (DoD).

ACTION: Notice.

SUMMARY: Pursuant to the National Environmental Policy Act (NEPA), Council on Environmental Quality implementing regulations, and Presidential Executive Order 12114, the DoN (including both the United States [U.S.] Navy and the U.S. Marine Corps [USMC]), as the lead agency, jointly with the U.S. Coast Guard, U.S. Army, and U.S. Air Force, has prepared and filed with the U.S. Environmental Protection Agency a Draft Environmental Impact Statement/Overseas Environmental Impact Statement (EIS/OEIS) for Hawaii-California Training and Testing (HCTT) activities. The Draft EIS/OEIS includes an analysis of the potential environmental effects associated with conducting at-sea training and testing activities, and modernization and sustainment of ranges (collectively referred to as “military readiness activities”) within the HCTT Study Area.

DATES: The 60-day public comment period begins December 13, 2024, and ends February 11, 2025. The comment period includes an additional 15 calendar days (from the required 45 days) to allow the public more time to review and comment during the holiday season. In support of NEPA requirements, in-person public meetings in California and Hawaii and a virtual public meeting will be held in January 2025 to provide an overview of the Draft EIS/OEIS and answer questions from the public. Each meeting will also provide an opportunity to learn about how the military services are complying with the Section 106 process of the National Historic Preservation Act (NHPA) and to comment on potential effects on historic properties. The public can submit comments during the Draft EIS/OEIS public review and comment period at one of the in-person public meetings, electronically via the project website (www.nepa.navy.mil/hctteis/), or via U.S. postal mail. Public comments on the Draft EIS/OEIS must be postmarked or received online by 11:59 p.m. Hawaii standard time (HST) Tuesday, February 11, 2025, for consideration in the Final EIS/OEIS.

Three in-person public meetings will be held as follows:

1. January 13, 2025, from 4 to 7 p.m. Pacific standard time (PST) at Portuguese Hall, 2818 Avenida de Portugal, San Diego, CA;

2. January 15, 2025, from 4 to 7 p.m. HST at Ke'ehi Lagoon Memorial, Weinberg Hall, 2685 N Nimitz Highway, Honolulu, HI;

3. January 16, 2025, from 4 to 7 p.m. HST at Kauai Veterans Center, 3215 Kauai Veterans Memorial Highway, Lihue, HI.

One virtual public meeting will be held on January 22, 2025, from 3 to 4 p.m. HST/5 to 6 p.m. PST/8 to 9 p.m. Eastern Standard Time (EST).

ADDRESSES: Comments on the Draft EIS/OEIS may be provided at the in-person public meetings, electronically through the project website at: www.nepa.navy.mil/hctteis/, or by U.S. postal mail to: Naval Facilities Engineering Systems Command Pacific; Attention: HCTT EIS/OEIS Project Manager; 258 Makalapa Drive, Suite 100, Pearl Harbor, HI 96860-3134.

FOR FURTHER INFORMATION CONTACT: U.S. Pacific Fleet Command, Attention: Ms. Heather Paynter, Environmental Public Affairs Specialist, 808-474-8441, CPF-Environmental-PA@us.navy.mil, or visit the project website: www.nepa.navy.mil/hctteis/.

SUPPLEMENTARY INFORMATION: Commander, U.S. Pacific Fleet is the DoN's lead action proponent. Additional DoN action proponents include Naval Sea Systems Command, Naval Air Systems Command, Naval Information Warfare Systems Command, Office of Naval Research, Naval Facilities Engineering Expeditionary Warfare Center, and the USMC. In addition, the EIS/OEIS includes certain activities by the U.S. Coast Guard, U.S. Army, and U.S. Air Force when those activities are similar to DoN or USMC activities and are scheduled on DoN-controlled at-sea ranges.

Proposed military readiness activities are similar to those analyzed in the 2018 Hawaii-Southern California Training and Testing (HSTT) EIS/OEIS and the at-sea activities in the 2022 Point Mugu Sea Range (PMSR) EIS/OEIS and are consistent with activities that have been conducted off Hawaii and California for more than 80 years.

The Draft EIS/OEIS includes an analysis of military readiness activities using new information, including an updated acoustic analysis, updated marine mammal density data, and evolving and emergent best available science.

The HCTT Study Area (hereafter referred to as the “Study Area”) consists primarily of the Hawaii Study Area, the California Study Area, and the transit corridor connecting the two. The Study Area includes the at-sea components of the range complexes (Hawaii Range Complex, Southern California [SOCAL] Range Complex, PMSR, Northern California [NOCAL] Range Complex), DoN pierside locations and port transit channels, bays, harbors, inshore waterways, amphibious approach lanes, and civilian ports where training and testing activities occur. The HCTT Study Area differs from the HSTT Study Area in that HCTT includes an expanded SOCAL Range Complex; special use airspace (Proposed Warning Area [W]-293 and Proposed W-294) corresponding to the expanded SOCAL Range Complex; new testing sea space between Proposed W-293 and PMSR; two existing training and testing ranges, the PMSR and NOCAL Range Complex; areas along the Southern California coastline from approximately Dana Point to Port Hueneme; and four amphibious approach lanes providing land access from the NOCAL Range Complex and PMSR. While the overall boundaries of the Hawaii portion of the Study Area have not changed from the 2018 HSTT EIS/OEIS, nearshore areas, such as Kaneohe Bay or Marine Corps Training Area Bellows, are proposed to be used more frequently or for new training or testing activities, such as mine warfare training.

The purpose of the Proposed Action is to conduct military readiness activities, comprised of training, testing, and modernization and sustainment of ranges, within the Study Area to ensure U.S. military services are able to organize, train, and equip service members and personnel, needed to meet their respective national defense missions in accordance with their Congressionally mandated requirements.¹ Training and testing activities that include the use of active sonar, explosives, or other sources of underwater sound would employ mitigation measures to potentially reduce or avoid adverse effects on marine species. Range modernization and sustainment activities include new special use airspace in Southern California, installation and maintenance of underwater ranges in Southern California and Hawaii, deployment of seafloor cables and connected instrumentation south and west of San Clemente Island in the California Study Area and northeast of Oahu and west of Kauai in the Hawaii Study Area, installation and maintenance of mine warfare and other training areas offshore of Hawaii and Southern California, and installation and maintenance of underwater platforms in Hawaii and Southern California.

¹ 10 United States Code (U.S.C.), sections 8062 (Navy), 8063 (USMC), 7062 (U.S. Army), 9062 (U.S. Air Force) and 14 U.S.C. 101 and 102 (USCG).

Potential effects on environmental resources resulting from activities included in the two Action Alternatives and the No Action Alternative were evaluated in accordance with 40 CFR 1502.16. Resources evaluated include, but are not limited to, biological (including marine mammals, reptiles, fishes, vegetation, invertebrates, habitats, birds, and other protected species), sediments and water quality, air quality, cultural, socioeconomics and environmental justice, and public health and safety. The Draft EIS/OEIS also includes an analysis of measures that would avoid, minimize, or mitigate environmental effects potentially resulting from military readiness activities. Direct, indirect, and cumulative effects on these resource areas are analyzed in the Draft EIS/OEIS.

The DoN, as the lead action proponent, is coordinating and consulting with appropriate Federal agencies as required by the Marine Mammal Protection Act (MMPA), NHPA, Endangered Species Act (ESA), National Marine Sanctuaries Act, Magnuson‐Stevens Fishery Conservation and Management Act, Clean Water Act, Rivers and Harbors Act, Coastal Zone Management Act, Clean Air Act, and other laws and regulations determined to be applicable to the project. As part of this process, the military services are seeking the issuance of regulatory permits and authorizations under MMPA and ESA to support at-sea military readiness activities within the Study Area, beginning in December 2025. The National Marine Fisheries Service (NMFS) is a cooperating agency in the preparation of the EIS/OEIS. In the rule-making process, NMFS will consider the potential effects of the Proposed Action on the marine environment. The EIS/OEIS will support NMFS' rule-making process to issue MMPA authorizations.

The military services distributed the Draft EIS/OEIS to government agencies they are consulting with and to federally recognized Tribes and other stakeholders. The Draft EIS/OEIS is available for public review on the project website at www.nepa.navy.mil/hctteis/ and at these public libraries:

1. Billie Jean King Main Library, 200 W Broadway, Long Beach, CA 90802.

2. City of San Diego Central Library, 330 Park Blvd., San Diego, CA 92101.

3. Coast Community Branch of Mendocino County Library, 225 Main St., Point Arena, CA 95468.

4. Coronado Public Library, 640 Orange Ave., Coronado, CA 92118.

5. E.P. Foster Library, 651 E Main St., Ventura, CA 93001.

6. Los Angeles Central Library, 630 W 5th St., Los Angeles, CA 90071.

7. Monterey Public Library, 625 Pacific St., Monterey, CA 93940.

8. San Luis Obispo Library, 995 Palm St., San Luis Obispo, CA 93403.

9. Hawaii State Library, 478 S King St., Honolulu, HI 96813.

10. Hilo Public Library, 300 Waianuenue Ave., Hilo, HI 96720.

11. Kahului Public Library, 90 School St., Kahului, HI 96732.

12. Kailua-Kona Public Library, 75-138 Hualalai Road, Kailua-Kona, HI 96740.

13. Lihue Public Library, 4344 Hardy St., Lihue, HI 96766.

14. Molokai Public Library, 15 Ala Malama Ave., Kaunakakai, HI 96748.

The public involvement process is helpful in identifying public concerns and local issues to be considered during the development of the EIS/OEIS and encouraging comments on the environmental analysis. Federal, State, and local agencies; federally recognized Tribes and Tribal groups; Native Hawaiian Organizations; nongovernmental organizations; and interested persons are encouraged to provide substantive comments on the Proposed Action and the environmental analysis, as well as the project's potential to affect historic properties as it relates to Section 106 of the NHPA. All comments provided at the in-person public meetings, electronically via the project website, or mailed to the address provided in the ADDRESSES section will be considered during the development of the Final EIS/OEIS.

In-person public meetings will include an open-house information session, a short presentation by DoN representatives, and a public oral comment session. The presentation will begin at approximately 5 p.m. local time. DoN representatives will be available during the open-house information sessions to answer questions and clarify information related to the Draft EIS/OEIS. Attendees will be able to submit oral and written comments during the in-person public meetings. Oral comments from the public will be recorded by a court reporter and each speaker's comments will be limited to three (3) minutes. Equal weight will be given to oral and written statements.

During the virtual public meeting, DoN representatives will provide a short presentation and answer questions submitted by the public. Questions concerning the Draft EIS/OEIS will be accepted in advance through January 15, 2025, via the question form on the project website. Questions may also be submitted in writing during the meeting. Please note that questions submitted as part of the question-and-answer session are not official public comments; public comments should be submitted at the in-person public meetings, electronically via the project website (www.nepa.navy.mil/hctteis/), or via U.S. postal mail. An audio-only option will be available for the virtual public meeting. The project website has more information on attending the virtual public meeting.

A virtual open house presentation will also be available on the project website to provide more information about the Proposed Action, its purpose and need, potential effects on environmental resource areas from the Proposed Action, the NEPA and NHPA Section 106 processes, and public involvement opportunities. The public can view the virtual open house presentation at the project website anytime during the Draft EIS/OEIS public review and comment period.

Dated: December 6, 2024.
A.J. Gioiello,
Lieutenant Commander, Judge Advocate General's Corps, U.S. Navy, Federal Register Liaison Officer.

[FR Doc. 2024-29123 Filed 12-12-24; 8:45 am]

BILLING CODE 3810-FF-P